DEPARTMENT OF LABOR

Employment and Training Administration

[TA-W-39,814]

Tingley Rubber Corp., South Plainfield, New Jersey; Amended Certification Regarding Eligibility To Apply for Worker Adjustment Assistance

In accordance with section 223 of the Trade Act of 1974 (19 U.S.C. 2273) the Department of Labor issued a Certification of Eligibility to Apply for Worker Adjustment Assistance on September 13, 2001, applicable to workers of Tingley Rubber Corporation, South Plainfield, New Jersey. The notice was published in the Federal Register on September 21, 2001 (66 FR 39814).

At the request of a company official, the Department reviewed the certification for workers of the subject firm. The workers were engaged in the production of protective rubber and PVC footwear until the company ceased production in August 2003.

New information shows that workers will be retained at the subject firm beyond the September 13, 2003 expiration date of the certification. These employees will complete the decommissioning of the subject plant until their termination on September 26, 2003. Based on these findings, the Department is amending the certification to extend the September 13, 2003 expiration date for TA-W-39,814 to read September 26, 2003.

The intent of the Department's certification is to include all workers of Tingley Rubber Corporation who were adversely affected by increased imports.

The amended notice applicable to TA-W-39,814 is hereby issued as follows:

“All workers of Tingley Rubber Corporation, South Plainfield, New Jersey, who became totally or partially separated from employment on or after July 27, 2000, through September 26, 2003, are eligible to apply for adjustment assistance under section 223 of the Trade Act of 1974.”

Signed at Washington, DC this 15th day of August 2003.
Elliott S. Kushner,
Certifying Officer, Division of Trade Adjustment Assistance.

[FR Doc. 03-23729 Filed 9-16-03; 8:45 am]

BILLING CODE 4510-30-P